DEPARTMENT OF AGRICULTURE

Animal and Plant Health Inspection Service

[Docket No. APHIS-2019-0076]

Environmental Impact Statement for Predator Damage Management in Oregon

AGENCY: Animal and Plant Health Inspection Service, USDA.

ACTION: Notice of intent to prepare an environmental impact statement.

SUMMARY: We are advising the public that the Animal and Plant Health Inspection Service plans to prepare an environmental impact statement analyzing alternatives for predator damage management in Oregon.

FOR FURTHER INFORMATION CONTACT: Mr. Kevin Christensen, Assistant State Director, Wildlife Services, APHIS, USDA, 3414 Del Webb Ave, Salem, OR 97301; (503) 329-9819.

SUPPLEMENTARY INFORMATION: The Animal and Plant Health Inspection Service (APHIS) intends to prepare an environmental impact statement (EIS) to address alternatives for APHIS Wildlife Services' involvement in managing damage and threats to livestock and other domestic animals, agricultural resources, property, natural resources, and human health and safety associated with predators in Oregon. The scope of the EIS is intended to include management of damage and conflicts associated with coyotes, gray wolves, black bears, mountain lions, bobcats, red foxes, striped skunks, raccoons, badgers, Virginia opossum, feral and free-ranging dogs, feral and free-ranging cats, spotted skunks, gray fox, and weasels.

We anticipate initiating public scoping for the EIS in the spring of 2020. Once completed, the EIS will replace APHIS Wildlife Services' existing environmental assessments on predator and wolf damage management in Oregon.

To receive notices regarding this project or other Wildlife Services NEPA projects, please register at https://public.govdelivery.com/accounts/USDAAPHIS/subscriber/new.

Done in Washington, DC, this 7th day of November 2019.
Kevin Shea,
Administrator, Animal and Plant Health Inspection Service.

[FR Doc. 2019-24720 Filed 11-13-19; 8:45 am]

BILLING CODE 3410-34-P